DEPARTMENT OF THE INTERIOR

Bureau of Land Management

[LLORV00000-L10200000.DD0000; HAG 9-0348]

Notice of Public Meeting, National Historic Oregon Trail Interpretive Center Advisory Board

AGENCY: Bureau of Land Management (BLM), Vale District.

ACTION: Meeting Notice for the National Historic Oregon Trail Interpretive Center (NHOTIC) Advisory Board.

SUMMARY: Pursuant to the Federal Land Policy and Management Act and the Federal Advisory Committee Act, the U.S. Department of the Interior, Bureau of Land Management (BLM) National Historic Oregon Trail Interpretive Center Advisory Board will meet as indicated below:

DATES: The meeting will begin at 9 a.m. (Pacific Daylight Time) on September 18, 2009.

ADDRESSES: The meeting will take place at the National Historic Oregon Trail Interpretive Center, 22267 Highway 86, Baker City, Oregon.

FOR FURTHER INFORMATION CONTACT: Mark Wilkening, Public Affairs Officer, Vale District Office, 100 Oregon Street, Vale, Oregon 97918, (541) 473-6218.

SUPPLEMENTARY INFORMATION: At the NHOTIC Advisory Board meeting we will welcome members, receive an update from the Center Manager and District Manager, talk about elements of the Strategic Plan, receive an update on the energy audit, receive an update on the American Recovery and Reinvestment Act projects at the Center, and consider other matters that may reasonably come before the Advisory Board. The meeting is open to the public and will take place from 9 a.m.to 12:05 p.m. Pacific Daylight Time (PDT). Public comment is scheduled from 11:05 a.m. to 11:20 a.m. PDT, September 18, 2009. For a copy of the information to be distributed to the Council members, please submit a written request to the Vale District Office 10 days prior to the meeting.

Dated: August 31, 2009.
David R. Henderson,
District Manager, Vale District Office.

[FR Doc. E9-21375 Filed 9-3-09; 8:45 am]

BILLING CODE 4310-33-P